DEPARTMENT OF LABOR

Employment and Training Administration

Proposed Information Collection Request Submitted for Public Comment and Recommendations; O*NET Data Collection Program

ACTION: Notice.

SUMMARY: As part of its continuing effort to reduce paperwork and respondent burden, the Department of Labor, conducts a preclearance consultation program to provide the general public and Federal agencies with an opportunity to comment on proposed and/or continuing collections of information. This is done in accordance with the Paperwork Reduction Act of 1995 (PRA95), 44 U.S.C. 3506(c)(2)(A). This program helps to ensure that requested data can be provided in the desired format, reporting burden (time and financial resources) is minimized, collection instruments are clearly understood, and the impact of collection requirements on respondents can be properly assessed. With this notice, the Employment and Training Administration is soliciting comments concerning the proposed O*NET (Occupational Information Network) Data Collection Program. A copy of the proposed information collection request (ICR) can be obtained by contacting the office listed below in the Addresses section of this notice or can be downloaded from the Internet at:

http://www.onetcenter.org/dataCollection/ombclearance.html or from www.doleta.gov/programs/onet.

DATES: Written comments must be submitted to the office listed in the Addresses section of this notice on or before October 6, 2000.

ADDRESSES: Send comments regarding the O*NET Data Collection Program to James Woods, Chief, Division of Evaluation and Skills Assessment, Office of Policy and Research, Employment and Training Administration, U.S. Department of Labor, 200 Constitution Avenue, NW., Room N5637, Washington, D.C. 20210. The telephone number is 202-693-3660 (this is not a toll-free number). Comments may also be submitted via e-mail to: O*NET@doleta.gov.

FOR FURTHER INFORMATION CONTACT: James Woods, Chief, Division of Evaluation and Skills Assessment, telephone number 202-693-3660. (See Addresses section.)

SUPPLEMENTARY INFORMATION:

I. Background

The O*NET Data Collection Program is planned to be a continuing activity to develop and maintain a current database on detailed characteristics of occupations. The resulting database will be the most comprehensive standard source of occupational information in the nation. O*NET will be at the center of an extensive network of occupational information used by a wide range of audiences, from individuals making career decisions, to public agencies and schools making workforce investment decisions, to employers making staffing and training decisions. O*NET also will provide a common language and framework to meet administrative needs of various federal programs, including workforce investment and training programs of the Departments of Labor, Education, and Health and Human Services.

In 1999, the Employment and Training Administration received OMB approval to conduct the O*NET Data Collection Program Survey Pretest (OMB No. 1205-0400, exp. 11/99). The Pretest provided information on the impact of several survey features on response rates. The use of alternative sample sizes per establishment and the use of in-kind incentives were tested for their impact on response rates for businesses. Alternatives on outreach and types of return envelope postage were tested for their impact on employee response rates.

The Pretest has been completed, and its results indicated significant increases in response rates were achieved with an optimum combination of specific tested survey features. Pretest results are described in the supporting documentation to this ICR.

A. Survey of Establishments and Incumbent Workers

Information will be collected in a two-stage design, including a statistical sample of businesses expected to employ workers in the specific occupations being surveyed, and a sample of workers in the occupations within the sampled businesses. These workers will be asked to complete the survey instruments.

For selected occupations, two alternative methods will be used.

B. Survey of Membership of Occupational Associations

The first is to contact professional associations that include a majority of the occupation's incumbent workers in their membership and sample from their member roster. These sampled workers will be surveyed in the same manner as workers identified in the two-stage sample design.

C. Subject Matter Experts

The second alternative is to identify subject matter experts for selected occupations. The experts will be asked to complete the questionnaires, as well as the demographic items and the task list for the specific occupation being surveyed.

II. Review Focus

The Department of Labor is particularly interested in comments which:

• evaluate whether the proposed information collection is necessary for the proper performance of the functions of the agency, including whether the information will have practical utility;

• evaluate the accuracy of the agency's estimate of the burden of the proposed collection of information including the validity of the methodology and assumptions used;

• enhance the quality, utility, and clarity of the information to be collected; and

• minimize the burden of the collection of information on those who are to respond, including through the use of appropriate automated, electronic, mechanical, or other technological collection techniques or other forms of information, e.g., permitting electronic submissions of responses.

III. Current Action

The O*NET Data Collection Program will collect information on up to 300 occupations in the first year, increasing the number of occupations in subsequent years to allow collection on all 974 O*NET occupations over three to five years. The O*NET occupations either match to, or represent more detailed breakouts of occupations from the 1998 Standard Occupational Classification.

O*NET uses five survey questionnaires: (1) Skills, (2) Generalized Work Activities, which are general types of job behaviors occurring on multiple jobs, (3) Abilities, (4) Work Context, the physical and social factors that influence the nature of work, and (5) Knowledge. (Copies of these questionnaires are also available from the Internet site already noted.) All but the Abilities questionnaire will be used to survey incumbent workers identified using the two-stage sample design. Abilities will be rated by analysts. While the sample of incumbent workers is designed to provide responses from four questionnaires, to reduce response burden each incumbent will be randomly assigned only one of the four questionnaires. Incumbents also will be asked to provide basic demographic information, and to complete a brief task inventory for their specific occupation. Incumbents will be offered the option of going to an Internet website to complete an on-line questionnaire.

The name of incumbent respondents will not be requested on the survey form and all individual responses will be maintained in strict confidentiality. The data from job incumbents and others will be used to develop mean ratings on the various items.

The resulting data will be subjected to extensive analysis, and will be made available to the public through scheduled updates to the O*NET database.

Type of Review: New.

Agency: Employment and Training Administration.

Title: O*NET Data Collection Program.

OMB Number: 1205-0NEW.

Affected Public: Employers (includes private and not-for-profit businesses and government); individuals (incumbent workers, subject matter experts).

Total Respondents: 24,000.

Frequency of Response: Annual.

Total Responses: 24,000.

Average Time Per Response: Employer response time is 1 hour, 35 minutes. Incumbent worker response time is 30 minutes. Subject matter expert response time is 2 hours, 30 minutes.

Estimated Total Annual Burden Hours: 22,183 hours.

Total Burden Cost (capital/startup): $0.

Total Burden Cost (operating/maintenance): $0

Comments submitted in response to this notice will be summarized and/or included in the request for Office of Management and Budget approval of the information collection request; they will also become a matter of public record.

Signed at Washington, D.C., this 1st day of August, 2000.
Gerard Fiala,
Administrator, Office of Policy and Research, Employment and Training Administration.

[FR Doc. 00-19883 Filed 8-4-00; 8:45 am]

BILLING CODE 4510-30-P